DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2006 Census Test Coverage Followup.

Form Number(s): DD-1301 (CFU) & DD-1301 (HU-V).

Agency Approval Number: None.

Type of Request: New collection.

Burden: 9,266 hours.

Number of Respondents: 55,600.

Avg Hours Per Response: 10 minutes.

Needs and Uses: The U.S. Census Bureau requests authorization from the Office of Management and Budget to conduct the 2006 Census Test Coverage Followup (CFU) operation. Improving coverage, or how well the Census Bureau counts people and housing units in the census, is one of the major goals for the 2010 Census. To achieve this goal, the Census Bureau is conducting an iterative series of tests that will provide an opportunity to evaluate new or improved question wording, methodology, technology, and questionnaire design.

The 2006 Census Test is part of the testing cycle, which was planned to allow us to finalize methodologies and operational procedures in time to conduct a Dress Rehearsal in 2008 and a successful census in 2010. The 2006 CFU operation is designed to improve coverage by collecting additional information from households that we identify as having potential coverage problems. This includes households where we have reason to believe that persons may have been counted more than once (e.g., students who are counted at their parents' home but also counted where they reside while they are attending school) or persons who might not have been included in the household count (e.g., newborn babies or roommates). During this operation, we also will contact large households containing more than six persons in order to ensure that everyone is included. Similarly, households where the count of persons does not equal the number of persons for which census data are provided will be contacted. We will also attempt to contact households that contain persons identified on administrative records who were not included on the appropriate census questionnaire. Finally, the entire census universe will be matched against itself in an effort to resolve person duplication at the housing level.

The 2006 CFU operation will be conducted in selected locations in Travis County, Texas and the Cheyenne River Reservation and Off Reservation Trust Land, South Dakota. Both telephone interviews and personal visits to gather information are planned.

Affected Public: Individuals or households.

Frequency: One-time.

Respondent's Obligation: Mandatory.

Legal Authority: Title 13 U.S.C., sections 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: December 22, 2005.
Madeleine Clayton,
Management Analyst, Office of the Chief Information Officer.

[FR Doc. E5-7971 Filed 12-27-05; 8:45 am]

BILLING CODE 3510-07-P